DEPARTMENT OF THE INTERIOR

National Park Service

36 CFR Part 7

RIN 1024-AD96

Special Regulation: Areas of the National Park System, National Capital Region

AGENCY: National Park Service, Interior.

ACTION: Final rule.

SUMMARY: The National Park Service (NPS) is physically moving the office of the Division of Park Programs, National Mall and Memorial Parks (NAMA) which processes applications for special events and demonstrations permits for nine parks in the National Capital Region (NCR). This rule updates the address and location of the office where these permit applications may be obtained and where completed applications are to be submitted by mail or in person.

DATES: Effective March 28, 2011.

FOR FURTHER INFORMATION CONTACT: Robbin M. Owen, Chief, Division of Park Programs, National Park Service, National Capital Region, 900 Ohio Drive SW., Washington, DC 20024. Telephone: (202) 619-7225.

SUPPLEMENTARY INFORMATION: During the fourth week of March, the NPS is expecting to move the Division of Park Programs from 1100 Ohio Drive, SW., to the nearby 900 Ohio Drive, SW., Washington, DC 20024. Now codified at 36 CFR 7.96(g)(3), the NPS 1975 rulemaking established a centralized location where permit applications for special events and demonstrations, must be submitted, Monday—Friday from 8 a.m. to 4 p.m., holidays excepted. As the NPS explained the NCR regulatory permit application process the:

Applications will be immediately date-and-time stamped upon receipt. * * * This provision for official receipt only during office hours is designed to permit the Park Service to properly process applications within the prescribed time period. 40 FR 58652 (1975)

As Acting Secretary of the Interior Nathaniel P. Reed explained, at 41 FR 12880 (1976):

It is the opinion of the Department that receipt of the application in this single location is necessary in order to effectively administer the priority system for the use of park lands, to ensure that the application will be considered by an official of responsible rank, and to allow for consideration of the permit within the applicable time limitation. Even though executed permit applications must be received at that location, application blanks may be obtained at other locations in the National Capital Parks area.* * *

As to why applications had to be received at the permit offices during regular business hours, the NPS explained at 41 FR 12880 (1976), that:

[T]his limitation is necessary in order that the required security precautions and augmentation of forces and services may be provided. The Department has weighed the administrative burdens that the absence of this limitation would impose upon the various government agencies involved against possible effects upon the exercise of First Amendment freedoms and believes on balance that these effects are inconsequential. This impact is further lessened since demonstrations may be conducted in certain areas without permit pursuant to paragraph (b).

Need for Change: The technical amendment is needed to provide the public with the new address of the relocated permit office where special event/demonstration permit applications can be obtained and where completed applications shall be submitted, whether by mail or in person. The relocation of the Division of Park Programs to a nearby park location does not substantially change the function of the special event/demonstration application process. It does not create additional or change permit requirements in the Code of Federal Regulations. This technical amendment also conforms to the long-standing administrative practice that applications directed to the Regional Director go to the Division of Park Programs. Further, this technical amendment updates the name of the NPS permit program office. The Office of Public Affairs no longer administers the NCR special event/demonstration program; that responsibility was transferred to the Division of Park Programs. Although under the management of NAMA, the Division of Park Programs continues to manage this permit program for nine NCR parks.

No Public Comment Period/Immediate Effective Date: The Department of the Interior has determined that the public notice and comment provisions of the Administrative Procedures Act (APA) 5 U.S.C. 553(b), do not apply to this rule because of a good cause exception under 5 U.S.C. 553(b)(3)(B). This exception allows an agency to suspend the notice-and-comment requirement when an agency finds for good cause that those requirements are impracticable, unnecessary, and contrary to the public interest. This rule changes the address for submitting applications; it makes no other substantive changes. Failure to immediately publish this change would be impracticable and would otherwise lead to confusion as to where applications should be submitted, which would undermine the ability of persons and groups to engage in permitted demonstrations and special events.

For these reasons public comment is unnecessary and good cause exists for immediately publishing the final rule. For the same reasons, we have determined that there is good cause for making the final rule effective immediately, as allowed under the APA 5 U.S.C. 553(d), and 318 DM 4.7B(1)(i).

List of Subjects in 36 CFR Part 7

District of Columbia, National parks, Reporting and recordkeeping requirements.

In consideration of the reasons stated in the preamble, the National Park Service amends 36 CFR part 7 as follows:

PART 7—SPECIAL REGULATIONS, AREAS OF THE NATIONAL PARK SYSTEM

1. The authority for part 7 continues to read as follows:

Authority: 16 U.S.C. 1, 3, 9a, 460(q), 462(k); Sec. 7.96 also issued under 36 U.S.C. 501-511, DC Code 10-137 (2001) and DC Code 50-2201.07 (2001).

2. In § 7.96, in paragraph (g) (3), revise the first two sentences to read as follows:

§ 7.96 National Capital Region.

* * * * *

(g) * * *

(3) Permit applications. Permit applications may be obtained at the Division of Park Programs, National Mall and Memorial Parks, 900 Ohio Drive SW., Washington, DC 20024. Applicants shall submit permit applications in writing on a form provided by the National Park Service so as to be received by the Regional Director at the Division of Park Programs at least 48 hours in advance of any proposed demonstration or special event. * * *

* * * * *

Dated: March 14, 2011.
Will Shafroth,
Assistant Secretary for Fish and Wildlife and Parks.

[FR Doc. 2011-7146 Filed 3-25-11; 8:45 am]

BILLING CODE 4312-JK-P